DEPARTMENT OF ENERGY

Federal Energy Regulatory Commission

Combined Notice of Filings

Take notice that the Commission has received the following Natural Gas Pipeline Rate and Refund Report filings:

Docket Numbers: RP21-317-000.

Applicants: Natural Gas Pipeline Company of America.

Description: § 4(d) Rate Filing: Removal of Expired Negotiated Rate Agreements Filing to be effective 1/18/2021.

Filed Date: 12/17/20.

Accession Number: 20201217-5000.

Comments Due: 5 p.m. ET 12/29/20.

Docket Numbers: RP21-318-000.

Applicants: Gulf South Pipeline Company, LLC.

Description: § 4(d) Rate Filing: Amendments to Neg Rate Agmts (Aethon 52454, 53154) to be effective 12/17/2020.

Filed Date: 12/17/20.

Accession Number: 20201217-5059.

Comments Due: 5 p.m. ET 12/29/20.

Docket Numbers: RP21-319-000.

Applicants: Sabine Pipe Line LLC.

Description: § 4(d) Rate Filing: Normal 7.25 and 7.26 to be effective 2/1/2021.

Filed Date: 12/17/20.

Accession Number: 20201217-5075.

Comments Due: 5 p.m. ET 12/29/20.

Docket Numbers: RP21-320-000.

Applicants: Transcontinental Gas Pipe Line Company.

Description: § 4(d) Rate Filing: Non-Conforming—Southeastern Trail to be effective 1/1/2021.

Filed Date: 12/17/20.

Accession Number: 20201217-5171.

Comments Due: 5 p.m. ET 12/29/20

Docket Numbers: RP21-321-000.

Applicants: Transcontinental Gas Pipe Line Company.

Description: § 4(d) Rate Filing: List of Non-Conforming Service Agreements (Southeastern Trail) to be effective 1/1/2021.

Filed Date: 12/17/20.

Accession Number: 20201217-5196.

Comments Due: 5 p.m. ET 12/29/20.

Docket Numbers: RP21-322-000.

Applicants: Stagecoach Pipeline & Storage Company LL.

Description: § 4(d) Rate Filing: Stagecoach Pipeline & Storage Company LLC—Filing of Non-Conforming Agreement to be effective 1/1/2021.

Filed Date: 12/17/20.

Accession Number: 20201217-5225.

Comments Due: 5 p.m. ET 12/29/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2020.
Kimberly D. Bose,
Secretary.

[FR Doc. 2020-28564 Filed 12-23-20; 8:45 am]

BILLING CODE 6717-01-P